DEPARTMENT OF TRANSPORTATION

Surface Transportation Board

[STB Finance Docket No. 34388]

Union Pacific Railroad Company—Trackage Rights Exemption—Omaha Public Power District

Pursuant to a trackage rights agreement dated July 25, 2003,¹ between Union Pacific Railroad Company (UP) and Omaha Public Power District (OPPD), OPPD has agreed to grant to UP local trackage rights on OPPD's entire line of railroad between milepost 6.0 near Arbor, NE, and milepost 56.3 near College View, NE, a distance of approximately 56.65 miles.²

¹ A redacted version of the trackage rights agreement between UP and OPPD was filed with the notice of exemption. The full version of the agreement, as required by 49 CFR 1180.6(a)(7)(ii), was concurrently filed under seal along with a motion for protective order. A protective order was served on August 14, 2003.

² UP indicates that the milepost designations of the end points do not reflect the actual length of the trackage rights segment because the trackage rights segment includes two line segments with noncontiguous mileposts; a 5.3-mile segment from milepost 6.0 near Arbor to milepost 0.7 near Nebraska City, and a connecting 51.35-mile segment from milepost 4.95 near Nebraska City to milepost 56.3 near College View.

The transaction is scheduled to be consummated on January 1, 2004.

The purpose of the trackage rights is to permit UP to provide service to OPPD's Nebraska City Power Station and to other shippers located along the rail line.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34388, must be filed with the Surface Transportation Board, 1925 K Street, NW., Washington, DC 20423-0001. In addition, a copy of each pleading must be served on Robert T. Opal, General Commerce Counsel, 1416 Dodge Street, Room 830, Omaha, NE 68179.

Board decisions and notices are available on our Web site at http://www.stb.dot.gov.

Decided: August 14, 2003.
By the Board, David M. Konschnik, Director, Office of Proceedings.
Vernon A. Williams,
Secretary.

[FR Doc. 03-21298 Filed 8-21-03; 8:45 am]

BILLING CODE 4915-00-P